NATIONAL SCIENCE FOUNDATION

Special Emphasis Panel in Computer-Communications Research Notice of Meeting

In accordance with the Federal Advisory Committee Act (Pub. L. 92-463, as amended), the National Science Foundation announces the following meeting:

Name: Special Emphasis Panel in Computer-Communications Research (1192).

Date/Time: March 2 and 3, 2000; 8:00 a.m. to 5:00 p.m.

Place: National Science Foundation, 4201 Wilson Boulevard, Arlington, VA 22230.

Type of Meeting: Closed.

Contact Person: Dr. Yechezkel Zalcstein, Program Director, Theory of Computing Program, CISE/C-CR, Room 1145, National Science Foundation, 4201 Wilson Boulevard, Arlington, VA 22230. (703) 306-1914.

Purpose of Meeting: to provide advice and recommendations for the Theory of Computing Program (TOC) by providing review of approximately 60 proposals with special attention to changing emphasis for that program.

Agenda: Review and evaluate TOC proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: February 1, 2000.
Karen J. York,
Committee Management Officer.

[FR Doc. 00-2738 Filed 2-7-00; 8:45am]

BILLING CODE 7555-01-M